DEPARTMENT OF ENERGY

Federal Energy Regulatory Commission

[Project No. 190-105]

Notice of Application Accepted for Filing and Soliciting Motions To Intervene and Protests: Moon Lake Electric Association, Inc.

Take notice that the following hydroelectric application has been filed with the Commission and is available for public inspection.

a. Type of Application: Minor, new license.

b. Project No.: P-190-105.

c. Date filed: January 31, 2017.

d. Applicant: Moon Lake Electric Association, Inc.

e. Name of Project: Uintah Hydroelectric Project.

f. Location: The project is located near the Town of Neola, Duchesne County, Utah and diverts water from primarily the Uinta River as well as Big Springs Creek and Pole Creek. The project is located almost entirely on the tribal lands of the Uintah and Ouray Native American Reservation and federal lands managed by Ashley National Forest.

g. Filed Pursuant to: Federal Power Act, 16 U.S.C. 791(a)-825(r).

h. Applicant Contact: Patrick Corun, Engineering Manager, Moon Lake Electric Association, Inc., 800 West U.S. Hwy 40, Roosevelt, Utah 84066, (435) 722-5406, pcorun@mleainc.com.

i. FERC Contact: Quinn Emmering, (202) 502-6382, quinn.emmering@ferc.gov.

j. Deadline for filing motions to intervene and protests and requests for cooperating agency status: 60 days from the issuance date of this notice.

The Commission strongly encourages electronic filing. Please file motions to intervene and protests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-190-105.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted, but is not ready for environmental analysis at this time.

l. Project Description: The Uintah Hydroelectric Project operates as a run-of-river facility delivering water to the project facilities from primarily the Uinta River as well as Big Springs and Pole Creek. Existing project facilities include: (1) A stop-log diversion structure on the that conveys flow from Big Springs Creek and a non-project canal to a 916-foot-long, 28-inch diameter, steel pipeline that connects to the point of diversion on the Uinta River; (2) an 80-foot-long, 4-foot-wide, 3-foot-high overflow-type concrete diversion structure with a 10-foot-high, 6.5-foot-wide steel slide gate on the Uinta River; (3) a concrete structure with manual slide gates for dewatering the main supply canal and returning water to the Uinta River immediately downstream of the Uinta diversion; (4) an emergency slide gate about midway along the main supply canal; (5) a 16-foot-wide, 8-foot-deep, 25,614-foot-long, clay-lined main supply canal which conveys water from Big Springs Creek and the Uinta River; (6) a stop-log diversion structure with non-functional control gates which diverts water from Pole Creek; (7) a 6-foot-wide, 4-foot-deep, 6,200-foot-long Pole Creek canal that collects water from the Pole Creek diversion; (8) an 86-inch-wide, 80-inch-long, 43-inch-high transition bay and a 140-foot-long, 14-inch diameter steel penstock collects water from the Pole Creek canal; (9) a 23-foot by 13-foot concrete forebay structure containing trashracks with 2.5-inch spacing, a headgate that is located at the termination of the main supply canal and the Pole Creek penstock, and an overflow channel; (10) a single 5,238-foot-long, 36-inch diameter polyurethane and steel penstock which delivers water to a concrete powerhouse with two Pelton turbines driving two 600-kilowatt (KW) generators; (11) a 600-foot-long tailrace; (12) an 8.5-mile-long, 4.75-mile-long 24.9-kilovolt (KV) single wood pole distribution line; and (13) appurtenant facilities.

The estimated average annual generation is about 6,073 megawatt-hours. Moon Lake proposes to modify the project boundary to account for an update to the project transmission line that reduced its total length from 8.5 miles to 4.75 miles.

m. A copy of the application is available for review at the Commission in the Public Reference Room or may be viewed on the Commission's website at http://www.ferc.gov using the eLibrary link. Enter the docket number excluding the last three digits in the docket number field to access the document. For assistance, contact FERC Online Support. A copy is also available for inspection and reproduction at the address in item h above.

You may also register online at http://www.ferc.gov/docs-filing/esubscription.asp to be notified via email of new filings and issuances related to this or other pending projects. For assistance, contact FERC Online Support.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title PROTEST or MOTION TO INTERVENE; (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural schedule: The application will be processed according to the following schedule. Revisions to the schedule will be made as appropriate.

Commission issues Scoping Document 2 July 2019

Commission Issues Letter Requesting Additional Information and Studies July 2019

Additional Information and Study Reports due October 2019

Issue Ready for Environmental Analysis (REA) Notice November 2019

Deadline for Filing Comments, Recommendations and Agency Terms and Conditions/Prescriptions January 2020

Licensee's Reply to REA Comments February 2020

Commission Issues Draft EA July 2020

Comments on Draft EA August 2020

Commission Final EA November 2020

Dated: July 24, 2019.
Kimberly D. Bose,
Secretary.

[FR Doc. 2019-16148 Filed 7-29-19; 8:45 am]

BILLING CODE 6717-01-P